DEPARTMENT OF AGRICULTURE

Farm Service Agency

Addition of Eligible States for Beginning Farmer and Rancher Land Contract Guarantee Pilot Program

AGENCY: Farm Service Agency, USDA.

ACTION: Notice.

SUMMARY: This notice announces that the Farm Service Agency (FSA) is adding California, Minnesota, and Nebraska as eligible states to its Beginning Farmer and Rancher Land Contract Guarantee Pilot Program. Expanding the Pilot Program is intended to facilitate land transfers to a greater number of beginning farmers and ranchers.

DATES: FSA will accept applications from the additional states beginning on September 15, 2005.

ADDRESSES: General information may be obtained from the FSA Web site at http://www.fsa.usda.gov or the USDA, FSA office listed in your local telephone directory.

FOR FURTHER INFORMATION CONTACT: Trent Rogers, Senior Loan Officer, USDA, FSA, Farm Loan Programs Loan Making Division, STOP 0522, 1400 Independence Avenue, SW., Washington, DC 20250-0522; telephone (202) 720-1657; Facsimile (202) 720-6797; e-mail: trent.rogers@wdc.usda.gov. Persons with disabilities who require alternative means for communication (Braille, large print, audio tape, etc.) should contact the USDA Target Center at (202) 720-2600 (voice and TDD).

SUPPLEMENTARY INFORMATION: On September 4, 2003, FSA published a notice in the Federal Register announcing that funds were available for the Beginning Farmer and Rancher Land Contract Guarantee Pilot Program (68 FR 52557-52562). The notice provided the policies and procedures under which the program would be administered, including application requirements, evaluation criteria, servicing requirements, and policies for payment of the guarantee in case of default.

The pilot program is mandated by Section 310 F of the Consolidated Farm and Rural Development Act (7 U.S.C. 1936). That section provides that if the Secretary determines that the risk of such a program is comparable with the risk presented in the case of guarantees to commercial lenders, then:

“* * * the Secretary shall carry out a pilot program in not fewer than 5 States, as determined by the Secretary, to guarantee up to 5 loans per State in each of fiscal years 2003 through 2007 made by a private seller of a farm or ranch to a qualified beginning farmer or rancher on a contract land sale basis, if the loan meets applicable underwriting criteria and a commercial lending institution agrees to serve as escrow agent.”

The pilot program was originally made available in Indiana, Iowa, North Dakota, Oregon, Pennsylvania, and Wisconsin. By this notice FSA announces that the program is expanded to California, Minnesota, and Nebraska. All requirements of the current pilot program were provided in the notice of September 4, 2003, and remain in effect, except the definition of “Pilot State,” is revised to add California, Minnesota and Nebraska. The policies, procedures, and forms used in administration of the program are available at http://www.fsa.usda.gov and are contained in FSA handbooks which may be obtained from the information contact listed above or any local FSA office. The additional information collection burden requirements of this program were approved by the Office of Management and Budget and assigned OMB Control No. 0560-0228.

Signed in Washington, DC on September 8, 2005.
James R. Little,
Administrator, Farm Service Agency.

[FR Doc. 05-18333 Filed 9-14-05; 8:45 am]

BILLING CODE 3410-05-P